DEPARTMENT OF TRANSPORTATION

Federal Aviation Administration

Notice of Intent To Rule on Application 04-02-C-00-ROA To Impose and Use the Revenue From a Passenger Facility Charge (PFC) at Roanoke Regional Airport, Roanoke, VA

AGENCY: Federal Aviation Administration (FAA), DOT.

ACTION: Notice of intent to rule on application.

SUMMARY: The FAA proposes to rule and invites public comment on the application to impose and use the revenue from a PFC at Roanoke Regional Airport (ROA) under the provisions of the 49 U.S.C. 40117 and part 158 of the Federal Aviation Regulations (14 CFR part 158). The FAA is changing the Federal Register Notice published Friday, October 1, 2004, to change the approve or disapprove date of the application, in whole or in part, no later than November 29, 2004. We are also changing the application number to identify this as ROAs' second application.

DATES: Comments must be received on or before November 12, 2004.

ADDRESSES: Comments on this application may be mailed or delivered in triplicate to the FAA at the following address: Washington Airports District Office, 23723 Air Freight Lane, Suite 210, Dulles, Virginia 20166.

In addition, one copy of any comments submitted to the FAA must be mailed or delivered to Ms. Jacqueline L. Shuck, Executive Director, Roanoke Regional Airport of the Roanoke Airport Commission at the following address: Roanoke Regional Airport Commission, 5202 Aviation Drive, Roanoke, Virginia 24012-1148.

Air carriers and foreign air carriers may submit copies of written comments previously provided to the public agency full name under § 158.23 of part 158.

FOR FURTHER INFORMATION CONTACT: Mr. Terry J. Page, Manager, Washington Airports District Office, 23723 Air Freight Lane, Suite 210, Dulles, Virginia 20166; Telephone: 703-661-1354.

The application may be reviewed in person at this same location.

SUPPLEMENTARY INFORMATION: The FAA proposes to rule and invites public comment on the application to impose and use the revenue from a PFC at Roanoke Regional Airport under the provisions of the 49 U.S.C. 40117 and part 158 of the Federal Aviation Regulations (14 CFR part 158).

On August 31, 2004, the FAA determined that the application to impose, use the revenue from, impose and use the revenue from a PFC submitted by Roanoke Regional Airport Commission was substantially complete within the requirements of § 158.25 of part 158. The FAA will approve or disapprove the application, in whole or in part, no later than November 29, 2004.

Any person may inspect the application in person at the FAA office listed above under FOR FURTHER INFORMATION CONTACT and at the FAA regional Airports office located at: Federal Aviation Administration, Eastern Region, 1 Aviation Plaza, Jamaica, New York 11434-4809.

In addition, any person may, upon request, inspect the application, notice and other documents germane to the application in person at the Roanoke Regional Airport Commission.

Issued in Dulles, Virginia on September 23, 2004.
Terry J. Page,
Manager, Washington Airports District Office, Eastern Region.

[FR Doc. 04-22949 Filed 10-12-04; 8:45 am]

BILLING CODE 4910-13-M